NUCLEAR REGULATORY COMMISSION

10 CFR Part 72

[NRC-2024-0121]

Regulatory Guide: Acceptable ASME Section XI Inservice Inspection Code Cases

AGENCY: Nuclear Regulatory Commission.

ACTION: Final guide; issuance.

SUMMARY: The U.S. Nuclear Regulatory Commission (NRC) is issuing a new Regulatory Guide (RG) 3.78 (Revision 0), “Acceptable ASME Section XI Inservice Inspection Code Cases.” This new RG provides applicants and licensees with methods that the NRC staff considers acceptable for specific or general independent spent fuel storage installation (ISFSI) licensees and certificate of compliance (CoC) holders to comply with NRC regulations for inservice inspection of confinement boundary components and aging management activities associated with the renewals of ISFSIs, general licensees, and CoC holders for spent fuel storage systems.

DATES: Revision 0 to RG 3.78 is available on February 14, 2025.

ADDRESSES: Please refer to Docket ID NRC-2024-0121 when contacting the NRC about the availability of information regarding this document. You may obtain publicly available information related to this document using any of the following methods:

• Federal Rulemaking Website: Go to https://www.regulations.gov and search for Docket ID NRC-2024-0121. Address questions about Docket IDs in Regulations.gov to Bridget Curran; telephone: 301-415-1003; email: Bridget.Curran@nrc.gov. For technical questions, contact the individuals listed in the FOR FURTHER INFORMATION CONTACT section of this document.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, at 301-415-4737, or by email to PDR.Resource@nrc.gov.

• NRC's PDR: The PDR, where you may examine and order copies of publicly available documents, is open by appointment. To make an appointment to visit the PDR, please send an email to PDR.Resource@nrc.gov or call 1-800-397-4209 or 301-415-4737, between 8 a.m. and 4 p.m. eastern time (ET), Monday through Friday, except Federal holidays.

Revision 0 to RG 3.78 and the regulatory analysis may be found in ADAMS under Accession Nos. ML24225A160 and ML24093A012, respectively.

Regulatory guides are not copyrighted, and NRC approval is not required to reproduce them.

FOR FURTHER INFORMATION CONTACT: Darrell Dunn, Office of Nuclear Material Safety and Safeguards, telephone: 301-415-7079; email: Darrell.Dunn@nrc.gov, or Harriet Karagiannis, Office of Nuclear Regulatory Research, telephone: 301-415-2493; email: Harriet.Karagiannis@nrc.gov. Both are staff of the U.S. Nuclear Regulatory Commission, Washington, DC 20555-0001.

SUPPLEMENTARY INFORMATION:

I. Discussion

The NRC is issuing a new guide in the NRC's “Regulatory Guide” series. This series was developed to describe methods that are acceptable to the NRC staff for implementing specific parts of the agency's regulations, to explain techniques that the staff uses in evaluating specific issues or postulated events, and to describe information that the staff needs in its review of applications for permits and licenses.

RG 3.78 was issued with a temporary identification of Draft Regulatory Guide, DG-3058 (ADAMS Accession No. ML24093A010).

II. Additional Information

The NRC published a notice of the availability of DG-3058, in the Federal Register on July 17, 2024 (89 FR 58080), for a 30-day public comment period. The public comment period closed on August 16, 2024, and the staff has incorporated public comments submitted on DG-3058. Public comments on DG-3058 and the staff responses to the public comments are available in ADAMS under Accession No. ML24225A162.

The new RG 3.78 provides the NRC staff and the industry with guidance using codes and standards for inservice inspection of confinement boundary components and aging management activities associated with the renewals of ISFSIs, general licensees, and CoC holders for spent fuel storage systems. This RG is endorsing the American Society of Mechanical Engineers (ASME) Code Case N-860, “Inspection Requirements and Evaluation Standards for Spent Nuclear Fuel Storage and Transportation Containment Systems Section XI, Division 1; Section XI, Division 2,” dated July 6, 2020.

As noted in the Federal Register on December 9, 2022 (87 FR 75671), this document is being published in the “Rules” section of the Federal Register to comply with publication requirements under chapter I of title 1 of the Code of Federal Regulations (CFR).

III. Congressional Review Act

This RG is a rule as defined in the Congressional Review Act (5 U.S.C. 801-808). However, the Office of Management and Budget has not found it to be a major rule as defined in the Congressional Review Act.

IV. Backfitting, Forward Fitting, and Issue Finality

Issuance of this RG does not constitute backfitting as defined in 10 CFR 72.62, “Backfitting,” as defined in 10 CFR 50.109, “Backfitting,” and as described in NRC Management Directive (MD) 8.4, “Management of Backfitting, Forward Fitting, Issue Finality, and Information Requests” (ADAMS Accession No. ML18093B087); does not constitute forward fitting as that term is defined and described in MD 8.4; does not affect the issue finality of any approval issued under 10 CFR part 52, “Licenses, Certificates, and Approvals for Nuclear Powerplants.” As explained in RG 3.78, applicants and licensees would not be required to comply with the positions set forth in RG 3.78.

V. Submitting Suggestions for Improvement of Regulatory Guides

A member of the public may, at any time, submit suggestions to the NRC for improvement of existing RGs or for the development of new RGs. Suggestions can be submitted on the NRC's public website at https://www.nrc.gov/reading-rm/doc-collections/reg-guides/contactus.html. Suggestions will be considered in future updates and enhancements to the “Regulatory Guide” series.

Dated: February 10, 2025.
For the Nuclear Regulatory Commission.
Meraj Rahimi,
Chief, Regulatory Guide and Programs Management Branch, Division of Engineering, Office of Nuclear Regulatory Research.

[FR Doc. 2025-02591 Filed 2-13-25; 8:45 am]

BILLING CODE 7590-01-P